FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), pursuant to 5 CFR 1320.16, to approve of and assign OMB control numbers to collection of information requests and requirements conducted or sponsored by the Board under conditions set forth in 5 CFR part 1320 Appendix A.1. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before August 18, 2014.

ADDRESSES: You may submit comments, identified by FR Y-7Q, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room MP-500 of the Board's Martin Building (20th and C Streets NW.) between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Cynthia Ayouch—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposal

The following information collection, which is being handled under this delegated authority, has received initial Board approval and is hereby published for comment. At the end of the comment period, the proposed information collection, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal To Approve Under OMB Delegated authority the Revision of the Following Report

Report title: Capital and Asset Report for Foreign Banking Organizations.

Agency form number: FR Y-7Q.

OMB control number: 7100-0125.¹

¹ Also included in this family of reports are the following reports, which are not being revised: the Financial Statements of U.S. Nonbank Subsidiaries Held by Foreign Banking Organizations (FR Y-7N) and the Abbreviated Financial Statements of U.S. Nonbank Subsidiaries Held by Foreign Banking Organizations (FR Y-7NS).

Frequency: Quarterly and annually.

Reporters: Foreign Banking Organizations (FBOs).

Estimated annual reporting hours: FR Y-7Q (quarterly): 763 hours; FR Y-7Q (annually): 65 hours.

Estimated average hours per response: FR Y-7Q (quarterly): 1.75 hours; FR Y-7Q (annually): 1.5 hours.

Number of respondents: FR Y-7Q (quarterly): 109; FR Y-7Q (annually): 43.

General description of report: This information collection is mandatory pursuant to Section 5(c) of the Bank Holding Company Act (12 U.S.C. 1844(c)) and sections 8(c) and 13 of the International Banking Act (12 U.S.C. 3106(c) and 3108)). Overall, the Federal Reserve does not consider these data to be confidential. However, individual respondents may request confidential treatment for any of these reports pursuant to sections (b)(4) and (b)(6) of the Freedom of Information Act (5 U.S.C. 522(b)(4) and (b)(6)). The applicability of these exemptions would need to be determined on a case-by-case basis.

Abstract: The FR Y-7Q collects consolidated regulatory capital information from all FBOs either quarterly or annually. The FR Y-7Q is filed quarterly by FBOs that have effectively elected to become financial holding companies (FHCs) and by FBOs that have total consolidated assets of $50 billion or more, regardless of FHC status. All other FBOs file the FR Y-7Q annually.

Current Actions: The Federal Reserve proposes to collect one new data item to implement the enhanced prudential standards for FBOs adopted pursuant to section 165 of the Dodd-Frank Act (DFA Section 165), Enhanced Prudential Standards for Large Domestic and Foreign Banking Organizations. The new data item, Total U.S. Non-Branch Assets, would be used to determine whether an FBO meets the threshold for formation of a U.S. intermediate holding company. This item would collect the sum of the total combined assets of a top-tier FBO's top-tier U.S. domiciled affiliates.² In situations where a top-tier U.S. domiciled affiliate is a parent of one or more subsidiaries, the total consolidated assets of the affiliate would include the assets of the affiliate and its subsidiaries, in accordance with U.S. Generally Accepted Accounting Principles (GAAP), and the total consolidated assets (or total assets, as applicable) of each top-tier U.S. domiciled affiliate should be combined. In situations where a top-tier U.S. domiciled subsidiary is not consolidated with the FBO for GAAP purposes, that entity shall be accounted for under the equity method and the sum of the amount of the investments should be included in the sum of the total combined assets of top-tier U.S. domiciled affiliates. The sum of the total combined assets of top-tier U.S. domiciled affiliates reported by a top-tier FBO should exclude intercompany balances and intercompany transactions between the FBO's U.S. domiciled affiliates to the extent such items are not already eliminated in consolidation. However, the sum of the total combined assets of top-tier U.S. domiciled affiliates reported by a top-tier FBO should include asset exposures to U.S. branches, or agencies of the FBO and to non U.S. domiciled affiliates³.

² Total combined assets of the top-tier FBO's U.S. domiciled affiliates should exclude the assets of section 2(h)(2) companies as defined in section 2(h)2 of the Bank Holding Company Act (12 U.S.C. 1841(h)(2)) and DPC branch subsidiaries. This item excludes the assets of U.S. branches and agencies.

³ In cases where the non U.S. Domiciled affiliate is already consolidated with a Top Tier U.S. Domiciled affiliate these exposures are excluded.

U.S. domiciled affiliate is defined as a subsidiary, an associated company, or an entity treated as an associated company (e.g., a corporate joint venture) as set forth in the instructions for the Consolidated Financial Statements for Holding Companies (FR Y-9C;OMB No. 7100-0128). The proposed revision would be effective December 31, 2014.

Board of Governors of the Federal Reserve System, June 12, 2014.
Robert deV. Frierson,
Secretary of the Board.

[FR Doc. 2014-14209 Filed 6-17-14; 8:45 am]

BILLING CODE 6210-01-P